DEPARTMENT OF THE INTERIOR

Bureau of Land Management

[WY-921-1430-ET; WYW 149140]

Public Land Order No. 7513; Withdrawal of National Forest System Land for the Tie Hack Campground; Wyoming

AGENCY: Bureau of Land Management, Interior.

ACTION: Public Land Order.

SUMMARY: This order withdraws 20.90 acres of National Forest System land from mining for a period of 20 years for the Forest Service to protect the Tie Hack Campground. The land has been and will remain open to such forms of disposition as may by law be made of National Forest System land and to mineral leasing.

EFFECTIVE DATE: February 21, 2002.

FOR FURTHER INFORMATION CONTACT: Janet Booth, BLM Wyoming State Office (WY921), 5353 N. Yellowstone Road, P.O. Box 1828, Cheyenne, Wyoming 82003, 307-775-6124.

SUPPLEMENTARY INFORMATION: By virtue of the authority vested in the Secretary of the Interior by section 204 of the Federal Land Policy and Management Act of 1976, 43 U.S.C. 1714 (1994), it is ordered as follows:

1. Subject to valid existing rights, the following described National Forest System land is hereby withdrawn from location and entry under the United States mining laws (30 U.S.C. Ch. 2 (1994)), but not from the general land laws or mineral leasing laws, to protect the Tie Hack Campground facility:

Bighorn National Forest

Sixth Principal Meridian

T. 50 N., R. 84 W.,

From the point of beginning, the corner of secs. 22, 23, 26 and 27 bears N. 53°19′ E., 1,042.9 feet;

Thence,

S. 51°02′ W., 250.7 feet;

S. 16°14′ W., 225.4 feet;

S. 32°23′ W., 231.6 feet;

S. 14°08′ W., 99.2 feet;

S. 02°55′ E., 223.8 feet;

S. 08°03′ E., 359.7 feet;

S. 60°21′ E., 237.5 feet;

N. 85°49′ E., 177.1 feet;

N. 64°10′ E., 155.1 feet;

N. 19°51′ E., 86.4 feet;

N. 01°13′ E., 131.7 feet;

N. 29°06′ W., 247.0 feet;

N. 54°04′ E, 144.5 feet;

N. 87°58′ E., 137.7 feet;

N. 68°14′ E., 59.9 feet;

N. 41°42′ E., 208.5 feet;

N. 15°01′ E., 306.1 feet;

N. 22°04′ W., 169.6 feet;

N. 51°26′ W., 121.1 feet;

N. 77°19′ W., 179.3 feet;

N. 86°19′ W., 285.7 feet, more or less, to the point of beginning.

The area described contains 20.90 acres in Johnson County.

2. The withdrawal made by this order does not alter the applicability of those public land laws governing the use of National Forest System land under lease, license, or permit, or governing the disposal of their mineral or vegetative resources other than under the mining laws.

3. This withdrawal will expire 20 years from the effective date of this order unless, as a result of a review conducted before the expiration date pursuant to section 204(f) of the Federal Land Policy and Management Act of 1976, 43 U.S.C. 1714(f) (1994), the Secretary determines that the withdrawal shall be extended.

Dated: February 12, 2002.
J. Steven Griles,
Deputy Secretary.

[FR Doc. 02-4160 Filed 2-20-02; 8:45 am]

BILLING CODE 4310-22-P